DEPARTMENT OF ENERGY

Federal Energy Regulatory Commission

[Docket No. ES01-10-000, et al.]

Oklahoma Gas and Electric Company, et al.; Electric Rate and Corporate Regulation Filings

November 9, 2000.

Take notice that the following filings have been made with the Commission:

1. Oklahoma Gas and Electric Company

[Docket No. ES01-10-000]

Take notice that on November 6, 2000, Oklahoma Gas and Electric Company submitted an application pursuant to section 204 of the Federal Power Act seeking authorization to issue short-term promissory notes and other evidences of indebtedness, including guarantees, in an amount not to exceed $400 million, from time to time during a period ending December 31, 2002.

Comment date: November 30, 2000, in accordance with Standard Paragraph E at the end of this notice.

2. Ogden Martin Systems of Fairfax, Inc.

[Docket No. ES01-11-000]

Take notice that on November 7, 2000, Ogden Martin Systems of Fairfax, Inc. submitted an application pursuant to section 204 of the Federal Power Act requesting authorization to make borrowing in an amount not to exceed $142 million pursuant to a secured long-term revolving loan and letter of credit.

Comment date: November 22, 2000, in accordance with Standard Paragraph E at the end of this notice.

3. Wheelabrator Shasta Energy Company, Inc.

[Docket No. QF84-431-002]

Take notice that on November 1, 2000, Wheelabrator Shasta Energy Company Inc. (Shasta Energy) filed a request for recertification that, subsequent to a change in upstream ownership, a qualifying small power production facility with a current net capacity of 49.9 megawatts that is leased and operated by Shasta Energy and is located in Shasta County, California, is a qualifying small power production facility.

Comment date: December 1, 2000, in accordance with Standard Paragraph E at the end of this notice.

4. Consumers Energy Company

[Docket No. ER01-359-000]

Take notice that on November 3, 2000, Consumers Energy Company (Consumers), tendered for filing executed Firm and Non-Firm Point to Point Transmission Service Agreements with NRG Power Marketing Inc. (Customer) pursuant to the Joint Open Access Transmission Service Tariff filed on December 31, 1996 by Consumers and The Detroit Edison Company (Detroit Edison).

The agreements have effective dates of October 25, 2000.

Copies of the filed agreements were served upon the Michigan Public Service Commission, Detroit Edison, and the Customer.

Comment date: November 24, 2000, in accordance with Standard Paragraph E at the end of this notice.

5. Indianapolis Power & Light Company

[Docket No. ER00-1026-005]

Take notice that on November 2, 2000, Indianapolis Power & Light Company (IPL), tendered for filing its refund report in the referenced docket.

Copies of this filing were served on the Indiana Utility Regulatory Commission and affected transmission customers.

Comment date: November 22, 2000, in accordance with Standard Paragraph E at the end of this notice.

6. Sierra Pacific Power Company

[Docket No. ER00-2003-002]

Take notice that on November 6, 2000, Sierra Pacific Power Company (Sierra) tendered for filing a refund report in compliance with the directive of the September 18, 2000 order in the above-captioned docket that approved a settlement to establish the Transmission Loss Factor for transmission service Sierra renders under its Open Access Transmission Tariff (OATT).

Copies of this filing were furnished to each affected wholesale customer and to each state commission within whose jurisdiction the wholesale customers distribute and sell electric energy at wholesale. Copies were also served upon the Public Utilities Commission of Nevada and the Public Utilities Commission of California.

Comment date: November 27, 2000, in accordance with Standard Paragraph E at the end of this notice.

7. PP&L Colstrip III, LLC

[Docket No. ER01-357-000]

Take notice that on November 3, 2000, PP&L Colstrip III, LLC, tendered a notice of cancellation of its FERC Electric Tariff, Original Volume No. 1. PP&L Colstrip III, LLC requests an effective date of this cancellation of January 2, 2001.

Comment date: November 24, 2000, in accordance with Standard Paragraph E at the end of this notice.

8. Central Power and Light Company

[Docket No. ER01-356-000]

Take notice that on November 3, 2000, Central Power and Light Company (CPL), tendered for filing a revised Service Agreement between CPL and Magic Valley Electric Cooperative, Inc. (MVEC) under CPL's FERC Electric Tariff, Thirteenth Revised Volume No. 1.

CPL requests an effective date of May 5, 2000, for the revised Service Agreement. Accordingly, to the extent necessary, CPL seeks waiver of the Commission's filing requirements. CPL has posted the filing according to the requirements of 18 CFR 35.2(d).

Copies of the filing are available for public inspection in CPL's offices in Corpus Christi, Texas.

Comment date: November 24, 2000, in accordance with Standard Paragraph E at the end of this notice.

9. PJM Interconnection, L.L.C.

[Docket No. ER01-355-000]

Take notice that on November 3, 2000, PJM Interconnection, L.L.C. (PJM), tendered for filing an executed Interim Interconnection Service Agreement between PJM and First State Power Management, Inc.

PJM requests a waiver of the Commission's 60-day notice requirement to permit the effective date agreed to by the parties.

Copies of this filing were served upon First State Power Management, Inc. and the state electric utility regulatory commissions within the PJM control area.

Comment date: November 24, 2000, in accordance with Standard Paragraph E at the end of this notice.

10. Carolina Power & Light Company

[Docket No. ER01-354-000]

Take notice that on November 3, 2000, Carolina Power & Light Company (CP&L), tendered for filing a Service Agreement for Short-Term Firm Point-to-Point Transmission Service with The Detroit Edison Company. Service to this Eligible Customer will be in accordance with the terms and conditions of Carolina Power & Light Company's Open Access Transmission Tariff.

CP&L is requesting an effective date of October 30, 2000, for this Agreement.

Copies of the filing were served upon the North Carolina Utilities Commission and the South Carolina Public Service Commission.

Comment date: November 24, 2000, in accordance with Standard Paragraph E at the end of this notice.

11. Indianapolis Power & Light Company

[Docket No. ER00-3518-001]

Take notice that on November 3, 2000, Indianapolis Power & Light Company (IPL), tendered for filing its compliance filing in the above-referenced docket.

Copies of this filing have been served upon Citizens Gas & Coke Utility and the Indiana Utility Regulatory Commission.

Comment date: November 24, 2000, in accordance with Standard Paragraph E at the end of this notice.

12. MidAmerican Energy Company

[Docket No. ER00-3273-001]

Take notice that on November 2, 2000, MidAmerican Energy Company (MidAmerican), 666 Grand Avenue, Des Moines, Iowa 50309, tendered for filing with the Commission a First Revised Service Agreement No. 15 dated July 10, 2000, entered into with Resale Power Group of Iowa, pursuant to MidAmerican's Rate Schedule for Power Sales, FERC Electric Tariff Original Volume No. 5.

MidAmerican requested a July 27, 2000, effective date for the Service Agreement, as amended, subject to MidAmerican making a compliance filing to conform MidAmerican's previous filing in this matter dated July 26, 2000 to be consistent with the necessary filing rate schedule designations as required by Order No. 614, FERC Stats & Regs. ¶ 31,096 (2000) and Southwest Power Pool Inc., 92 FERC ¶ 61,109 (2000).

MidAmerican has served a copy of the compliance filing on the Resale Power Group of Iowa, the Iowa Utilities Board, the Illinois Commerce Commission and the South Dakota Public Utilities Commission.

Comment date: November 22, 2000, in accordance with Standard Paragraph E at the end of this notice.

13. Central Illinois Light Company

[Docket No. ER00-3386-002]

Take notice that on November 2, 2000, Central Illinois Light Company (CILCO), 300 Liberty Street, Peoria, Illinois 61602, tendered for filing Scheduled A to an Interconnection Agreement with Bio-Energy Partners for Generation Interconnection and Parallel Operation.

Copies of the filing were served on the affected customer and the Illinois Commerce Commission.

Comment date: November 22, 2000, in accordance with Standard Paragraph E at the end of this notice.

14. Enron Energia Industrial de Mexico, S. de R.L. de C.V.

[Docket No. EG01-25-000]

Take notice that on November 6, 2000, Enron Energia Industrial de Mexico, S. de R.L. de C.V. (Enron Mexico), a company with its principal place of business at Av. Lazaro Cardenas 2321, Ste. 601, Residencial San Agustin, San Pedro Garza Garcia, Nuevo Leon 66260 Mexico, filed with the Federal Energy Regulatory Commission (Commission) an application for determination of exempt wholesale generator status pursuant to Part 365 of the Commission's regulations.

Enron Mexico is engaged in the development of a 245 MW natural gas powered cogeneration facility to be located near Monterrey, Mexico. From the facility, Enron Mexico will sell both electricity and steam under power purchase and steam purchase agreements to retail customers in Mexico.

Comment date: November 30, 2000, in accordance with Standard Paragraph E at the end of this notice. The Commission will limit its consideration of comments to those that concern the adequacy or accuracy of the application.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-29450 Filed 11-16-00; 8:45 am]

BILLING CODE 6717-01-P